DEPARTMENT OF HEALTH AND HUMAN SERVICES

Notice of Meeting of the Advisory Committee on Minority Health

AGENCY: Department of Health and Human Services, Office of the Secretary, Office of Pubic Health and Science, Office of Minority Health.

ACTION: Notice.

SUMMARY: The Advisory Committee on Minority Health will meet to discuss racial and ethnic disparities in health, as well as other related issues. This meeting is open to the public. There will be an opportunity for public comment, which will be limited to five minutes per speaker. Individuals who would like to submit written statements should mail or fax their comments to the Office of Minority health at least two business days prior to the meeting.

DATES: The Advisory Committee on Minority Health will meet on Thursday, October 17, 2002 from 9 a.m. to 5 p.m. and on Friday, October 18, 2002 from 8:30 a.m. till noon.

ADDRESSES: The meeting will be held at the Holiday Inn Georgetown, Mirage I Room, 2101 Wisconsin Avenue, NW., Washington, DC.

FOR FURTHER INFORMATION CONTACT: Ms. Sheila P. Merriweather, Rockwall II Building, 5515 Security Lane, Suite 1000, Rockville, Maryland 20852. Phone: 301-443-9923, Fax: 301-443-8280.

Dated: October 1, 2002.
Nathan Stinson, Jr.,
Deputy Assistant Secretary for Health.

[FR Doc. 02-25250 Filed 10-3-02; 8:45 am]

BILLING CODE 4150-29-M